Proclamation 8665 of April 29, 2011

Law Day, U.S.A., 2011

By the President of the United States of America

A Proclamation

At the core of our Nation’s values is our faith in the ideals of equality and justice under law. It is a belief embedded in our most cherished documents, and honored by President Eisenhower when he established Law Day in 1958 as “a day of national dedication to the principles of government under law.” Each Law Day, we uphold our commitment to the rule of law and celebrate its protection of the freedoms we enjoy.

This year, we pay tribute to one of America’s Founders and our second President, John Adams. As a young attorney in colonial Massachusetts, John Adams was asked to represent a British officer and eight British soldiers charged with firing into a crowd and killing five men in the Boston Massacre. In the face of mass public outcry and at great personal risk, he accepted the case and showed the world that America is a nation of laws and that a fair trial is the right of all people.

President Adams’ legacy of dedication to fairness and the rights of the accused has been carried forward by members of the legal profession for more than two centuries. It is championed by those who represent the accused and exemplified by women and men who are devoted to securing equal rights for all, both in America and around the world.

On this Law Day, I encourage all Americans to celebrate and reflect upon the example left to us by President John Adams and our centuries of adherence to the rule of law. In so doing, we help ensure future generations will inherit and promote the ideals that help move our Nation forward.

NOW, THEREFORE, I, BARACK OBAMA, President of the United States of America, in accordance with Public Law 87-20, as amended, do hereby proclaim May 1, 2011, as Law Day, U.S.A. I call upon all Americans to acknowledge the importance of our Nation’s legal and judicial systems with appropriate ceremonies and activities, and to display the flag of the United States in support of this national observance.

IN WITNESS WHEREOF, I have hereunto set my hand this twenty-ninth day of April, in the year of our Lord two thousand eleven, and of the Independence of the United States of America the two hundred and thirty-fifth.

[FR Doc. 2011-11068

Filed 5-4-11; 8:45 am]

Billing code 3195-W1-P